DEPARTMENT OF ENERGY

Federal Energy Regulatory Commission

[Project No. 13315-001]

Yegua Mesa Hydro, LLC; Notice of Preliminary Permit Application Accepted for Filing and Soliciting Comments, Motions To Intervene, and Competing Applications

On May 2, 2012, Yegua Mesa Hydro, LLC, filed an application for a successive preliminary permit, pursuant to section 4(f) of the Federal Power Act (FPA), proposing to continue studying the feasibility of the Yegua Mesa Pumped Storage Hydroelectric Project (Yegua Mesa Project or project) to be located near the city of Las Vegas, in San Miguel County, New Mexico. The proposed project would affect lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would be closed loop and would not be built on an existing body of water. The proposed project would consist of: (1) An upper earthen dam with a height of 94 feet and a length of 11,088 feet; (2) an upper reservoir with a surface area of 380 acres, a capacity of 9,868 acre-feet, and a maximum pool elevation of 6,800 feet mean sea level (msl); (3) a lower earthen dam with a height of 99 feet and a length of 5,597 feet; (4) a lower reservoir with a surface area of 380 acres, a capacity of 9,365 acre-feet, and a maximum pool elevation of 5,380 feet msl; (5) a 27-foot-diameter, 9,690-foot-long steel penstock; (6) a powerhouse containing 4 pump/turbine units with a total installed capacity of 1,100 megawatts; (7) a 14-mile-long, 500-kilovolt transmission line; and (8) appurtenant facilities. The proposed project would have an annual production of 3,993 gigawatthours that would be sold to a local utility.

Applicant Contact: Mr. Brent L. Smith, COO, Symbiotics LLC, 811 SW Naito Parkway Ste. 120, Portland, Oregon 97204; phone: (503) 235-3424.

FERC Contact: Carolyn Templeton; carolyn.templeton@ferc.gov; phone: (202) 502-8785.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13315) in the docket number field to access the document. For assistance, contact FERC Online Support.

Dated: June 13, 2012.
Kimberly D. Bose,
Secretary.

[FR Doc. 2012-14876 Filed 6-18-12; 8:45 am]

BILLING CODE 6717-01-P